DEPARTMENT OF AGRICULTURE

Forest Service

Siskiyou County Resource Advisory Committee

AGENCY: Forest Service, USDA.

ACTION: Notice of meeting.

SUMMARY: The Siskiyou County Resource Advisory Committee will meet in Yreka, California, September 16, 2002. The purpose of the meeting is to refine the proposal receipt and review process and discuss activities related to implemented projects and status of Forest Service processing of recommended projects and administrative costs.

DATES: The meeting will be held September 16, 2002 from 4 PM until 7 PM.

ADDRESSES: The meeting will be held at the Yreka High School Library, Preece Way, Yreka, California.

FOR FURTHER INFORMATION CONTACT: Don Hall, RAC Coordinator, Klamath National Forest (530) 841-4468 or electronically at donaldhall@fs.fed.us.

SUPPLEMENTARY INFORMATION: The meeting is open to the public. Public comment opportunity will be provided and individuals will have the opportunity to address the Committee at that time.

Dated: August 28, 2002.
Margaret J. Boland,
Designed Federal Official.

[FR Doc. 02-22575 Filed 9-4-02; 8:45 am]

BILLING CODE 3410-11-M